DEPARTMENT OF AGRICULTURE

Grain Inspection, Packers and Stockyards Administration

7 CFR Part 800

[Docket No. FGIS-2001-001b]

RIN: 0580-AA75

Fees for Official Inspection and Official Weighing Services

Correction

In rule document 01-17005 beginning on page 35751 in the issue of Monday, July 9, 2001, make the following correction:

§800.71 [Corrected]

On page 35753, §800.71(a), in Table 1, “(1) Inspection and Weighing Services Hourly Rates (per service representative)” should appear directly beneath the table heading.

[FR Doc. C1-17005 Filed 7-12-01; 8:45 am]

BILLING CODE 1505-01-D

DEPARTMENT OF STATE

22 CFR Part 126

[Public Notice 3575]

Bureau of Political-Military Affairs; Amendments to the International Traffic in Arms Regulation: Canadian Exemption

Correction

In rule document 01-3877 beginning on page 10575 in the issue of Friday, February 16, 2001, make the following corrections:

§126.5 [Corrected]

1. On page 10576, second column, §126.5 (b), fifth line, “paragraph” should read “paragraphs”.

2. On the same page, second column, §126.5 (b), sixth line, “section”, should read “section,”.

3. On the same page, third column, §126.5 (b), first line, “section”, should read “section,”.

[FR Doc. C1-3877 Filed 7-12-01; 8:45 am]

BILLING CODE 1505-01-D

DEPARTMENT OF THE TREASURY

Office of the Comptroller of the Currency

12 CFR Parts 1, 7, and 23

[Docket No. 01-13]

RIN 1557-AB94

Investment Securities; Bank Activities and Operations; Leasing

Correction

In rule document 01-16328 beginning on page 34784 in the issue of Monday, July 2, 2001, make the following corrections:

1. On page 34786, in the preamble, in the third column, in the second paragraph, in the 12th line, remove the word “is” after “however,”.

2. On the same page, in the preamble, in the same column, in the third paragraph, in the 13th line, remove the “,” and insert a “.” after the word “change”, and remove the text “and, therefore, we adopt it in the final rule as proposed. change.” that follows.

[FR Doc. C1-16328 Filed 7-12-01; 8:45 am]

BILLING CODE 1505-01-D